DEPARTMENT OF TRANSPORTATION

Federal Aviation Administration

14 CFR Part 39

[Docket No. FAA-2021-0843; Project Identifier MCAI-2020-00256-Q]

RIN 2120-AA64

Airworthiness Directives; Umlaut Engineering GmbH (Previously P3 Engineering GmbH) HAFEX (Halon-Free) Hand-Held Fire Extinguishers

AGENCY: Federal Aviation Administration (FAA), DOT.

ACTION: Notice of proposed rulemaking (NPRM).

SUMMARY: The FAA proposes to adopt a new airworthiness directive (AD) for certain Umlaut Engineering GmbH (previously P3 Engineering GmbH) HAFEX (Halon-free) hand-held P3HAFEX fire extinguishers (fire extinguishers). This proposed AD was prompted by reports of a quality control issue on certain fire extinguishers, where the spindle geometries of the fire extinguishers were found to be out of tolerance. This proposed AD would require removing affected fire extinguishers from service. The FAA is proposing this AD to address the unsafe condition on these products.

DATES: The FAA must receive comments on this proposed AD by November 22, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this NPRM, contact Umlaut Engineering, Blohmstrasse 12, Hamburg, Germany 21079, Phone: 49 0 40 75 25 779 0, email: hafex@umlaut.com, or web: https://www.umlaut.com/hafex. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-0843; or in person at Docket Operations between 9 a.m. and 5 p.m., Monday through Friday, except Federal holidays. The AD docket contains this NPRM, the European Union Aviation Safety Agency (EASA) AD, any comments received, and other information. The street address for Docket Operations is listed above.

FOR FURTHER INFORMATION CONTACT: Andrea Jimenez, Aerospace Engineer, COS Program Management Section, Operational Safety Branch, Compliance & Airworthiness Division, FAA, 1600 Stewart Ave., Suite 410, Westbury, NY 11590; telephone (516) 228-7330; email andrea.jimenez@faa.gov.

SUPPLEMENTARY INFORMATION:

Comments Invited

The FAA invites you to send any written relevant data, views, or arguments about this proposal. Send your comments to an address listed under ADDRESSES. Include “Docket No. FAA-2021-0843; Project Identifier MCAI-2020-00256-Q” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Andrea Jimenez, Aerospace Engineer, COS Program Management Section, Operational Safety Branch, Compliance & Airworthiness Division, FAA, 1600 Stewart Ave., Suite 410, Westbury, NY 11590; telephone (516) 228-7330; email andrea.jimenez@faa.gov. Any commentary that the FAA receives which is not specifically designated as CBI will be placed in the public docket for this rulemaking.

Background

EASA, which is the Technical Agent for the Member States of the European Union, has issued EASA AD 2020-0013, dated January 29, 2020 (EASA AD 2020-0013), to correct an unsafe condition for Airbus Helicopters Model AS 332 C, C1, L, L1, and L2, AS 365 N2 and N3, EC 155 B and B1, EC 175 B, EC 225 LP, SA 330 J, and SA 365 C1, C2, C3, N, and N1 helicopters; Airbus Helicopters Deutschland GmbH Model EC135 P1, P2, P2+, P3, T1, T2, T2+, and T3, EC635 P2+, P3, T1, T2+, and T3, and MBB-BK117 A-1, A-3, A-4, B-1, B-2, C-1, C-2, and D-2 helicopters; Leonardo S.p.A. Model AB139, AB 204B, AB 205 A-1, AB 212, AB 412, AB 412EP, AS-61N, AS-61N1, AW139, AW169, and AW189 helicopters; and WSK PZL—ŚWIDNIK S.A. Model PZL W-3A and PZL W-3AS helicopters. EASA advises of occurrences that have been reported of a quality issue on certain fire extinguishers, manufactured by Umlaut Engineering GmbH (formerly P3 Engineering GmbH), where the spindle geometries of the extinguishers were found to be out of tolerance. The manufacturing defect identified in certain serial-numbered fire extinguisher part numbers (P/Ns) P3APP003010A and P3APP003010C with a manufacturing date of March 2019 through July 2019 inclusive, where prolonged exposure (12 hours or more) to high temperature conditions of more than 68 °C (154.4 °F) could cause a non-detectable seizure of the spindle that could cause the fire extinguisher to be inoperative. This condition, if not addressed, could prevent proper extinguishing of a fire in the cabin, possibly resulting in damage to the helicopter and injury to the occupants.

Accordingly, EASA AD 2020-0013 requires replacing affected fire extinguishers and prohibits installing an affected fire extinguisher on any helicopter.

FAA's Determination

These products have been approved by EASA and are approved for operation in the United States. Pursuant to the FAA's bilateral agreement with the European Union, EASA has notified the FAA about the unsafe condition described in its AD. The FAA is proposing this AD after evaluating all known relevant information and determining that the unsafe condition described previously is likely to exist or develop on other products.

Related Service Information Under 1 CFR Part 51

The FAA reviewed Umlaut Vendor Service Bulletin Doc. No. P3VSB000001, Issue C, dated December 13, 2019 (VSB P3VSB000001). This service information specifies procedures for identifying P3HAFEX fire extinguisher P/Ns P3APP003010A and P3APP003010C, with a date of manufacture between March 2019 through July 2019, and an S/N listed in its Appendix 1, to determine if the fire extinguisher should be replaced. VSB P3VSB000001 also specifies procedures for removing, installing, and tracking affected P3HAFEX fire extinguishers.

This service information is reasonably available because the interested parties have access to it through their normal course of business or by the means identified in the ADDRESSES section.

Proposed AD Requirements in This NPRM

This proposed AD would require removing affected fire extinguishers from service and prohibit installing affected fire extinguishers on any aircraft.

Differences Between This Proposed AD and the EASA AD

EASA AD 2020-0013 is issued against various model helicopters and defines an affected part, whereas this proposed AD is an appliance AD action against affected fire extinguishers because the unsafe condition exists in the appliance itself and not in the installation of the appliance on certain aircraft. EASA AD 2020-0013 identifies some helicopter models that are affected by this unsafe condition that are not identified as possibly affected in this proposed AD because those model helicopters are not FAA type-certificated.

Costs of Compliance

The FAA estimates that this proposed AD affects 762 helicopters of U.S. Registry. Labor rates are estimated at $85 per work-hour. Based on these numbers, the FAA estimates that operators may incur the following costs in order to comply with this proposed AD.

Replacing a fire extinguisher would take about 0.25 work-hour and parts would cost about $1,200 for an estimated cost of $1,221 per fire extinguisher.

According to Umlaut Engineering GmbH service information, some of the costs of this proposed AD may be covered under warranty, thereby reducing the cost impact on affected individuals. The FAA does not control warranty coverage by Umlaut Engineering GmbH; accordingly, all costs are included in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Umlaut Engineering GmbH (previously P3 Engineering GmbH) HAFEX (Halon-free) Hand-Held Fire Extinguishers: Docket No. FAA-2021-0843; Project Identifier MCAI-2020-00256-Q.

(a) Comments Due Date

The FAA must receive comments on this airworthiness directive (AD) by November 22, 2021.

(b) Affected ADs

None.

(c) Applicability

This AD applies to Umlaut Engineering GmbH (previously P3 Engineering GmbH) HAFEX (Halon-free) hand-held P3HAFEX fire extinguisher (fire extinguisher) part numbers P3APP003010A and P3APP003010C with a manufacturing date of March 2019 through July 2019 inclusive and with a serial number listed in Appendix 1 of Umlaut Vendor Service Bulletin Doc. No. P3VSB000001, Issue C, dated December, 13, 2019. These fire extinguishers may be installed on but not limited to the following aircraft certificated in any category:

(1) Airbus Helicopters Model AS332C, AS332C1, AS332L, AS332L1, AS332L2, AS-365N2, AS 365 N3, EC 155B, EC155B1, EC225LP, SA330J, SA-365C1, SA-365C2, SA-365N, and SA-365N1 helicopters;

(2) Airbus Helicopters Deutschland GmbH (AHD) Model EC135P1, EC135P2, EC135P2+, EC135P3, EC135T1, EC135T2, EC135T2+, EC135T3, MBB-BK117 A-1, MBB-BK117 A-3, MBB-BK117 A-4, MBB-BK117 B-1, MBB-BK117 B-2, MBB-BK117 C-1, MBB-BK117 C-2, and MBB-BK117 D-2 helicopters;

(3) Leonardo S.p.a. Model AB139, AB412, AB412 EP, AW139, AW169, and AW189 helicopters; and

(4) PZL Swidnik S.A Model PZL W-3A helicopters.

(d) Subject

Joint Aircraft Service Component (JASC) Code: 2622, Fire Bottle, Portable.

(e) Unsafe Condition

This AD defines the unsafe condition as a non-conforming fire extinguisher, which could prevent proper extinguishing of a fire in the cabin, and result in subsequent damage to the helicopter and injury to the occupants.

(f) Compliance

Comply with this AD within the compliance times specified, unless already done.

(g) Required Actions

(1) Within 12 months after the effective date of this AD, remove each fire extinguisher identified in the introductory text of paragraph (c) from service.

(2) As of the effective date of this AD, do not install a fire extinguisher identified in the introductory text of paragraph (c) of this AD on any aircraft.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Andrea Jimenez, Aerospace Engineer, COS Program Management Section, Operational Safety Branch, Compliance & Airworthiness Division, FAA, 1600 Stewart Ave., Suite 410, Westbury, NY 11590; telephone (516) 228-7330; email andrea.jimenez@faa.gov.

(2) For service information identified in this AD, contact Umlaut Engineering, Blohmstrasse 12, Hamburg, Germany 21079, Phone: 49 0 40 75 25 779 0, email: hafex@umlaut.com, or web: https://www.umlaut.com/hafex. You may view this referenced service information at the FAA, Office of the Regional Counsel, Southwest Region, 10101 Hillwood Pkwy., Room 6N-321, Fort Worth, TX 76177. For information on the availability of this material at the FAA, call (817) 222-5110.

(3) The subject of this AD is addressed in European Union Aviation Safety Agency (EASA) AD 2020-0013, dated January 29, 2020. You may view the EASA AD on the internet at https://www.regulations.gov in Docket No. FAA-2021-0843.

Issued on September 30, 2021.
Lance T. Gant,
Director, Compliance & Airworthiness Division, Aircraft Certification Service.

[FR Doc. 2021-21952 Filed 10-7-21; 8:45 am]

BILLING CODE 4910-13-P